DEPARTMENT OF ENERGY

Federal Energy Regulatory Commission

[Project No.: P-2165-022]

Alabama Power Company; Notice of Application and Applicant-Prepared EA Accepted or Filing, Soliciting Motions To Intervene and Protests, and Soliciting Comments, and Final Recommendations, Terms and Conditions, and Prescriptions

March 5, 2007.

Take notice that the following hydroelectric application and applicant-prepared environmental assessment has been filed with the Commission and is available for public inspection.

a. Type of Application: New Major License.

b. Project No.: P-2165-022.

c. Date filed: July 28, 2005.

d. Applicant: Alabama Power Company.

e. Name of Project: Warrior River Hydroelectric Project, which includes the Lewis Smith and Bankhead Developments.

f. Location: The Lewis Smith development is located in northwestern Alabama in the headwaters of the Black Warrior River on the Sipsey Fork in Cullman, Walker, and Winston Counties. The Bankhead development is located in central Alabama downstream of the Lewis Smith development, on the Black Warrior River in Tuscaloosa County. The Lewis Smith development occupies 2,691.44 acres of federal lands administered by the U.S. Forest Service, and the Bankhead development occupies 18.7 acres of federal lands administered by the Bureau of Land Management.

g. Filed Pursuant to: Federal Power Act 16 U.S.C. 791(a)-825(r).

h. Applicant Contact: Mr. Jerry L. Stewart, Senior Vice President and Senior Production Officer, Alabama Power Company, 600 North 18th Street, P.O. Box 2641, Birmingham, AL 35291-8180.

i. FERC Contact: Monte TerHaar, Telephone (202) 502-6035, and e-mail monte.terhaar@ferc.gov.

j. Deadline for filing motions to intervene and protests, comments, and final recommendations, terms and conditions, and prescriptions is 60 days from the issuance of this notice; reply comments are due 105 days from the issuance date of this notice.

All documents (original and eight copies) should be filed with: Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted for filing.

l. The proposed Warrior River Project would consist of two existing developments. The Lewis Smith and Bulkhead developments would operate in peaking mode. The total capacity for all developments is 211.05 MW, generating about 463,094 MWh of energy annually. The project works would include the following:

Lewis Smith Development. The Lewis Smith development, located on the Sipsey Fork of the Black Warrior River, consists of: (1) A total of 2,200 feet of water retaining structures which includes a 300-foot-high earth and rock fill dam, an uncontrolled spillway with fixed crest elevation 522 feet mean seal level (msl), and powerhouse consisting of (a) a 95-foot-long uncontrolled spillway, (b) a 350-foot-wide channel which originates at the spillway and discharges into Mill creek about 3,000 feet downstream of the spillway, and (c) a concrete intake located 120 feet upstream of the dam which provides flows to two 23-foot-diameter, 630-foot-long power tunnels; (2) a 35-mile-long, 21,200-acre reservoir at normal pool elevation 510 feet msl, and capacity of 1,390,000 acre-ft at normal pool elevation 510 feet msl., and 1,670,600 acre-feet at spillway crest elevation 522-ft msl; (3) a 193-foot-long concrete power house, housing two 111,500 horse power vertical fixed-blade turbines and generating units, each rated at 78.75 MW for a total rated capacity of 157.5 MW and having a maximum hydraulic capacity of 5,700 cfs for and total hydraulic capacity of 11,400 cfs; (4) trashracks located at the turbine intakes with 6-inch bar spacing; (5) a substation; and (6) other appurtenances.

Bankhead Development. The Bankhead development is located at the U.S. Army Corps of Engineers (Corps) Lock and Dam No. 17 on the Black Warrior River. The dam, a 1,230-foot-long gated spillway, and 78-mile-long reservoir are owned and operated by the Corps. The Bankhead development consists of a powerhouse and intake canal consisting of: (1) A 54-foot-wide by 100-foot-long gated intake canal; (2) a 135-foot-long powerhouse housing one 71,400 horse power vertical propeller turbine and generating unit, rated at 53.985 MW and having a maximum hydraulic capacity of 10,388 cfs; (3) thirty-five trashracks located at the turbine intakes with 6-inch bar spacing; (4) penstocks; (5) a substation; and (6) other appurtenances.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659. A copy is also available for inspection and reproduction at the address in item h above.

Register online at http://www.ferc.gov/esubscribenow.htm to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

At this time we do not anticipate the need for preparing a draft environmental assessment. Recipients will have 60 days to provide the Commission with any written comments on the environmental assessment (EA). All comments filed with the Commission will be considered in the Order taking final action on the license applications. However, should substantive comments requiring re-analysis be received on the EA, we will consider preparing a subsequent EA. The application will be processed according to the following revised Hydro Licensing Schedule. Revisions to the schedule may be made as appropriate.

Milestone | Target date
Filing of recommendations, terms and conditions, and prescriptions | (May 2007).
Notice of Availability of the EA (single EA) | (September 2007).

p. Final amendments to the application must be filed with the Commission no later than 30 days from the issuance date of this notice.

q. A license applicant must file no later than 60 days following the issuance of this notice: (1) A copy of the water quality certification; (2) a copy of the request for certification, including proof of the date on which the certifying agency received the request; or (3) evidence of waiver of water quality certification.

Philis J. Posey,
Acting Secretary.

[FR Doc. E7-4342 Filed 3-9-07; 8:45 am]

BILLING CODE 6717-01-P